DEPARTMENT OF HEALTH AND HUMAN SERVICES

Food and Drug Administration

Medical Device Use in the Home Health Care Community; Public Meeting

AGENCY: Food and Drug Administration, HHS.

ACTION: Notice of public meeting.

SUMMARY: The Food and Drug Administration (FDA) is announcing a public meeting entitled “Home Health Care Committee” (the committee). The committee will recommend to the Center for Devices and Radiological Health (CDRH) appropriate actions that may be taken to promote safe and effective use of medical devices in the home environment. The committee was formed as part of CDRH's strategic planning to understand impediments to the safe and effective operation of medical devices used in the home environment. The committee is interested in learning from other agencies, from industry, and from the public how agencies can work better together using outside interested parties to make medical devices used in the home environment more safe and effective.

Date and Time: The public meeting will be held on September 12, 2002, from 9 a.m. to 4:45 p.m., and on September 13, 2002, from 9 a.m. to 3:30 p.m.

Location: The National Institutes of Health (NIH), Building 45, Natcher Building and Conference Center, Center Dr., Bethesda, MD. Details regarding NIH facilities and visitor information may be found on the Internet at http://www.nih.gov/about/visitorsecurity.htm.

Contact Person: Mary W. Brady, Center for Devices and Radiological Health (HFZ-530), 1350 Piccard Dr., Rockville, MD 20850, 301-594-2102, e-mail: mwb@cdrh.fda.gov.

Agenda: On September 12 and 13, 2002, representatives from various agencies will participate in a series of presentations regarding respective agency roles in home health care including: FDA, the Joint Commission on the Accreditation for Healthcare Organizations, the Department of Veterans Affairs, the Centers for Medicare and Medicaid Services, and the Health Resources and Services Administration. At the conclusion of each presentation audience members will be invited to participate in an open discussion. Each presentation and discussion session will run approximately 1 1/2 hours.

Procedure: Members of the public who are interested in attending as audience members should contact Mary W. Brady by September 5, 2002, or send an e-mail to CDRHHHCO@cdrh.fda.gov.

If you need special accommodations due to a disability, please contact Shirley L. Meeks, Center for Devices and Radiological Health (HFZ-017), 2098 Gaither Rd., Rockville, MD 20850, 301-594-1283, ext. 105, at least 7 days in advance of the meeting.

Dated: August 13, 2002.
Margaret M. Dotzel,
Associate Commissioner for Policy.

[FR Doc. 02-21207 Filed 8-19-02; 8:45 am]

BILLING CODE 4160-01-S